DEPARTMENT OF THE INTERIOR

Bureau of Land Management

[20X.LLAK980600.L18200000.LXSIARAC0000]

Notice of Public Meeting: Resource Advisory Council Subcommittee on Public Lands, Alaska

AGENCY: Interior Region 11, Bureau of Land Management.

ACTION: Notice of public meeting.

SUMMARY: In accordance with the Federal Land Policy and Management Act and the Federal Advisory Committee Act of 1972, the U.S. Department of the Interior, Bureau of Land Management (BLM) Alaska Resource Advisory Council (RAC), Subcommittee on Public Lands, will meet as indicated below.

DATES: The Alaska RAC's Subcommittee on Public Lands will hold virtual meetings on November 17 and 18, 2020, and again on February 9 and 10, 2021. The approximate meeting times are 8 a.m. to 5 p.m. for the first day meetings and 8 a.m. to noon for the second day meetings, with public comment periods being held each day. However, the meetings could end earlier or later depending on the needs of group members.

ADDRESSES: The meetings will be held online through the Zoom meeting application. People wishing to participate in the meetings can contact the RAC Coordinator for the link or call-in number at mbolton@blm.gov or by phone at (907) 271-3342. The link and final agendas will also be provided on the BLM Alaska RAC website at https://www.blm.gov/get-involved/resource-advisory-council/near-you/alaska/rac and on social media accounts.

FOR FURTHER INFORMATION CONTACT: Melinda Bolton by telephone at (907) 271-3342, or by email at mbolton@blm.gov. Persons who use a telecommunications device for the deaf (TDD) may call the Federal Relay Service (FRS) at 1-800-877-8339 to contact Ms. Bolton during normal business hours. The FRS is available 24 hours a day, 7 days a week, to leave a message or question. You will receive a reply during normal business hours.

SUPPLEMENTARY INFORMATION: The 15-member Alaska RAC serves in an advisory capacity concerning issues relating to land use planning or the management of the public land resources located within the State of Alaska. The 8-member Subcommittee on Public Lands was established to gather information, conduct research, and analyze relevant issues and facts on selected topics for future consideration by the RAC. The Subcommittee's primary goal is to provide information to the RAC that will allow it to better respond to time-sensitive issues, such as resource management plans, arctic activity, conveyances, minerals, subsistence management, and recreation. No decisions are made at the subcommittee level. All meetings are open to the public in their entirety. The Designated Federal Officer will attend the call, take minutes, and publish these detailed meeting minutes on the RAC web page.

The public may send written comments to the Subcommittee in response to material presented on the call to be forwarded to the RAC for consideration. Comments can be mailed to: BLM Alaska State Office, Office of Communications, Attn: Melinda Bolton; 222 W 7th Avenue, #13, Anchorage, AK 99513.

Interested persons may make oral or written presentations to the Council during the business meeting or file written statements. Such requests should be made to the DFO prior to the public comment period. Depending on the number of people who wish to speak and the time available, the time for individual comments may be limited.

Individuals who plan to attend and need further information about the meetings, need special assistance such as sign language interpretation or other reasonable accommodations may contact Melinda Bolton at the phone number or email address listed earlier (see FOR FURTHER INFORMATION CONTACT).

Before including your address, phone number, email address, or other personal identifying information in your comments, please be aware that your entire comment, including your personal identifying information, may be made publicly available at any time. While you can ask us in your comment to withhold your personal identifying information from public review, we cannot guarantee that we will be able to do so.

(Authority: 43 CFR 1784.4-2)

Lesli Ellis-Wouters,
Communications Director.

[FR Doc. 2020-21970 Filed 10-2-20; 8:45 am]

BILLING CODE 4310-HC-P